DEPARTMENT OF TRANSPORTATION

Federal Highway Administration

[Project Number GAI-0067-01 (004)]

Environmental Impact Statement: Hancock County, MS

AGENCY: Federal Highway Administration (FHWA), Department Of Transportation (DOT).

ACTION: Notice of intent.

SUMMARY: The FHWA is issuing this notice to advise the public that an environmental impact statement will be prepared for a proposed highway project in Hancock County, Mississippi. The project study area will extend a distance of approximately six (6) miles from Interstate 10 to the intersection of State Routes 43 and 603 in the vicinity of Kiln, Mississippi.

FOR FURTHER INFORMATION CONTACT: Mr. Claiborne Barnwell, Project Development Team Leader, Federal Highway Administration, 100 West Capitol Street, Suite 1062, Jackson, MS 39269, Telephone: (601) 965-4217. Contact at the State level is Ms. Kim Thurman, Environmental/Location Division Administrator, Mississippi Department of Transportation, P.O. Box 1850, Jackson, MS 39215-1850, telephone: (601) 359-7920.

SUPPLEMENTARY INFORMATION: The FHWA, in cooperation with the Mississippi Department of Transportation (MDOT), will prepare an Environmental Impact Statement (EIS) for the proposed widening and/or realignment of State Route 43/603 in Hancock County, Mississippi. The proposed improvements are intended to provide a safe and effective emergency evacuation route while alleviating high levels of congestion and travel delays presently being experienced. This project was initially started in 2008 as an Environmental Assessment. However, due to the complexity of the project and a high number of sensitive wetland and water issues, it was determined that an EIS was more appropriate. The initial terminus was evaluated between Interstate 10 near Kiln and Interstate 59 near Picayune, a distance of some 30-miles. In consideration of the immediate need and the available funding, the termini has been determined to extend between Interstate 10 south of Kiln and the intersection of State Route 43 and 603 north of Kiln, a distance of approximately 6-miles.

A Coordination Plan for Agency and Public Involvement will be developed in accordance with Public law 109-59, SAFETEA-LU, Title VI, Section 6002, Efficient Environmental Reviews for Project Decision Making, August 10, 2005, and will outline the process by which project information will be communicated to the lead, cooperating, participating, other agencies and organizations, and the public. This plan will also identify how input from agencies and the public will be solicited and considered. The coordination Plan is intended to be a flexible and fluid document and will be available at public and agency meetings for review. The purpose of the EIS is to address the transportation, environmental, and safety issues of such a transportation corridor. The proposed transportation project will be studied both for widening of the existing roadway and for the potential for new alignment in some areas and will provide a safer roadway and improve mobility for those traveling north from Interstate 10 to the intersection of state Routes 43 and 603. The proposed project will also specifically address traffic concerns in Kiln, Mississippi and how the existing congestion through the town can be best alleviated while preserving sensitive wetland resources. Alternatives under consideration include (1) taking no action and (2) build alternatives.

The FHWA and MDOT are seeking input as a part of the scoping process to assist in determining and clarifying issues relative to this project. Letters describing the proposed action and soliciting comments will be sent to appropriate Federal, state, and local agencies, Native American Tribes, private organizations and citizens who have previously expressed or are known to have interest in this proposal. A formal scoping meeting with Federal, state, and local agencies, and other interested parties will be held in the near future. Public involvement meetings will be held during the EIS process. The draft EIS will be available for public and agency review and comment prior to the official public hearing.

To ensure that the full range of issues related to this proposed action are addressed and all significant issues identified, comments and suggestions are invited from all interested parties. Comments or questions concerning this proposed action and the EIS should be directed to the FHWA at the address provided above.

Dated: August 19, 2011.
Andrew H. Hughes,
Division Administrator, Mississippi, Federal Highway Administration, Jackson, Mississippi.

[FR Doc. 2011-21837 Filed 8-25-11; 8:45 am]

BILLING CODE P